DEPARTMENT OF DEFENSE

Department of the Army

Privacy Act of 1974; System of Records

AGENCY: Department of the Army.

ACTION: Notice to alter a system of records.

SUMMARY: The Department of the Army is altering a system of records notice in its existing inventory of record systems subject to the Privacy Act of 1974, (5 U.S.C. 552a), as amended.

DATES: This proposed action will be effective without further notice on April 3, 2002, unless comments are received which result in a contrary determination.

ADDRESSES: Records Management Division, U.S. Army Records Management and Declassification Agency, Attn: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on February 22, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 25, 2002.
L.M. Bynum,
Alternate OSD Federal Register Liaison Officer, Department of Defense.,

A0190-9 DAMO

System name:

Absentee Case Files (February 22, 1993, 58 FR 10002).

Changes:

* * * * *

System location:

Delete entry and replace with ‘U.S. Army Personnel Control Facility, U.S. Army Desert Information Point, Building 1481, Fort Knox, KY 40121-5000.’

Categories of individuals covered by the system:

Delete entry and replace with ‘Active duty Army, U.S. Army Reserve on active duty or in active duty training status, and Army National Guard personnel on active duty, absent without authority from their place of duty, listed as absentee, and/or who have been designated as a deserter.’

Categories of records in the system:

Add to entry ‘individual's name, Social Security Number, grade’.

* * * * *

Routine uses of records maintained in the system, including categories of users and the purposes of such uses:

Delete entry and replace with ‘In addition to those disclosures generally permitted under 5 U.S.C. 552a(b) of the Privacy Act, these records or information contained therein may specifically be disclosed outside the DoD as a routine use pursuant to 5 U.S.C. 552a(b)(3) as follows:

Information may be disclosed to the Department of Veterans Affairs for assistance in determining whereabouts of Army deserters through the Veterans and Beneficiaries Identification and Records Locator Subsystem.

The DoD ‘Blanket Routine Uses’ set forth at the beginning of the Army's compilation of systems of records notices also apply to this system.’

* * * * *

A0190-9 DAMO

System name:

Absentee Case Files.

System location:

U.S. Army Personnel Control Facility, U.S. Army Desert Information Point, Building 1481, Fort Knox, KY 40121-5000.

Categories of individuals covered by the system:

Active duty Army, U.S. Army Reserve on active duty or in active duty training status, and Army National Guard personnel on active duty, absent without authority from their place of duty, listed as absentee, and/or who have been designated as a deserter.

Categories of records in the system:

Individual's name, Social Security Number, grade, reports and records which document the individual's absence; notice of unauthorized absence from U.S. Army which constitutes the warrant for arrest; notice of return to military control or continued absence in hands of civil authorities.

Authority for maintenance of the system:

10 U.S.C. 3013, Secretary of the Army, Army Regulation 190-9, Absentee Deserter Apprehension Program and Surrender of Military Personnel to Civilian Law Enforcement Agencies; Army Regulation 630-10, Absence Without Leave, Desertion, and Administration of Personnel Involved in Civilian Court Proceedings; and E.O. 9397 (SSN).

Purpose(s):

To enter data in the FBI National Crime Information Center ‘wanted person’ file; to ensure apprehension actions are initiated/terminated promptly and accurately; and to serve management purposes through examining causes of absenteeism and developing programs to deter unauthorized absences.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Veterans Affairs for assistance in determining whereabouts of Army deserters through the Veterans and Beneficiaries Identification and Records Locator Subsystem.

The DoD ‘Blanket Routine Uses’ set forth at the beginning of the Army's compilation of systems of records notices also apply to this system.

Policies and practices for storing, retrieving, accessing, retaining, and disposing of records in the system:

Storage:

Paper documents and the record copy of the Arrest Warrant are maintained in the Official Military Personnel Files; verified desertion data are stored on the Deserter Verification Information System at the U.S. Army Deserter Information Point.

Retrievability:

Manually, by name; automated records are retrieved by name, plus any numeric identifier such as date of birth, Social Security Number, or Army serial number.

Safeguards:

Access is limited to authorized individuals having a need-to-know. Records are stored in facilities manned 24 hours, 7 days a week. Additional controls which meet the physical, administrative, and technical safeguard requirements of Army Regulation 380-19, Information Systems Security, are in effect.

Retention and disposal:

Automated records are erased when individual returns to military custody, is discharged, or dies. Paper or microform records remain a permanent part of the individual's Official Military Personnel File.

System manager(s) and address:

Deputy Chief of Staff for Operations and Plans, ATTN: DAMO-ODL, Headquarters, Department of the Army, Washington, DC 20310-0440.

Notification procedure:

Individuals seeking to determine whether information about themselves is contained in this system should address written inquiries to the U.S. Army Deserter Information Point, U.S. Army Enlisted Records Center, Indianapolis, IN 42649-5301.

Individual should provide the full name, Social Security Number and/or Army serial number, address, telephone number and signature.

Record access procedures:

Individuals seeking access to information about themselves contained in this system should address written inquiries to the U.S. Army Deserter Information Point, U.S. Army Enlisted Records Center, Indianapolis, IN 46249-5301.

Individual should provide the full name, Social Security Number and/or Army serial number, address, telephone number and signature.

Contesting record procedures:

The Army's rules for accessing records, and for contesting contents and appealing initial agency determinations are contained in Army Regulation 340-21; 32 CFR part 505; or may be obtained from the system manager.

Record source categories:

Unit commander, first sergeants, subjects, witnesses, military police, U.S. Army Criminal Investigation Command personnel and special agents, informants, Department of Defense, federal, state, and local investigative and law enforcement agencies, departments or agencies of foreign governments, and any other individuals or organizations which may furnish pertinent information.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. 02-4986 Filed 3-01-02; 8:45 am]

BILLING CODE 5001-08-P